COMMISSION ON CIVIL RIGHTS

Sunshine Act Meeting Notice

AGENCY: United States Commission on Civil Rights.

ACTION: Notice of Commission briefing.

DATES: Friday, May 20, 2016, at 9 a.m. EDT.

ADDRESSES: Place: National Place Building, 1331 Pennsylvania Ave. NW., 11th Floor, Suite 1150, Washington, DC 20245 (Entrance on F Street NW).

FOR FURTHER INFORMATION CONTACT: Gerson Gomez, Media Advisor at telephone: (202) 376-8371, TTY: (202) 376-8116 or email: publicaffairs@usccr.gov.

SUPPLEMENTARY INFORMATION: This briefing and business meeting are open to the public. The public may listen on the following toll-free number: 1-888-572-7034. Please provide the operator with conference ID number 7822144.

Hearing-impaired persons who will attend the briefing and require the services of a sign language interpreter should contact Pamela Dunston at (202) 376-8105 or at signlanguage@usccr.gov at least seven business days before the scheduled date of the meeting. During the briefing, Commissioners will ask questions and discuss the briefing topic with the panelists. The public may submit written comments on the topic of the briefing to the above address for 30 days after the briefing. Please direct your comments to the attention of the “Staff Director” and clearly mark “Briefing Comments Inside” on the outside of the envelope. Please note we are unable to return any comments or submitted materials. Comments may also be submitted by email to EdFundComments@usscr.gov.

Briefing Agenda

Topic: Public Education Funding Inequality in an Era of Increasing Concentration of Poverty and Resegregation

I. Introductory Remarks—9:00 a.m.-9:15 a.m.

II. Panel One: Introduction to Public School Financing and Equity—9:15 a.m.-10:35 a.m.

Speakers' Remarks

• Joseph Rogers, Director of Public Engagement/Senior Researcher, Campaign for Educational Equity, Teachers College, Columbia University

• Danielle Farrie, Research Director, Education Law Center

• Beth Schiavano-Narvaez, Superintendent, Hartford, CT Public Schools

• David Volkman, Executive Assistant Secretary of Education for Pennsylvania

• Jamella Miller, Parent, William Penn School District

Questions from Commissioners

III. Panel Two: Funding Impact on Low-Income Children of Color—10:35 a.m.-11:45 a.m.

Speakers' Remarks

• Wade Henderson, President, Leadership Conference on Civil and Human Rights

• Fatima Goss Graves, Senior Vice President for Program, National Women's Law Center

• Becky Pringle, Vice President, National Education Association

• Jessie Brown, Senior Counsel to the Assistant Secretary, Office for Civil Rights, Department of Education

Questions from Commissioners

IV. Break 11:45 a.m.-12:45 p.m.

V. Panel Three: The Role and Effect of Money on Outcomes—12:45 p.m.-2:05 p.m.

Speakers' Remarks

• Jesse Rothstein, Professor of Public Policy and Economics, University of California, Berkeley

• Sean P. Corcoran, Associate Professor of Economics, New York University

• Steven Rivkin, Professor of Economics, University of Illinois at Chicago

• Doug Mesecar, Vice President, American Action Forum

• Gerard Robinson, Resident Fellow, Education Policy Studies, American Enterprise Institute

Questions from Commissioners

VI. Panel Four: Segregation: The Nexus Between School Funding and Housing—2:05 p.m.-3:25 p.m.

Speakers' Remarks

• Jacob Vigdor, Professor of Public Policy and Governance, University of Washington

• Phil Tegeler, Executive Director, Poverty and Race Research Action Council

• Catherine Brown, Vice President, Center for American Progress

• Monique Lin-Luse, Special Counsel, NAACP Legal Defense and Education Fund, Inc.

• Katherine M. O'Regan, Assistant Secretary for Policy Development and Research, Department of Housing and Urban Development

Questions from Commissioners

VII. Break 3:25 p.m.-3:35 p.m.

VIII. Panel Five: Federal Government on Equitable Funding—3:35 p.m.-4:48 p.m.

Speakers' Remarks

• Becky Monroe, Senior Counsel, Office of the Assistant Attorney General, Civil Rights Division, Department of Justice

• Honorable Bobby Scott (D-VA) or Designee

• Tanya Clay House, Deputy Assistant Secretary for P-12 Education, Office of Planning, Evaluation and Policy Development, Department of Education

• Ary Amerikaner, Deputy Assistant Secretary for Policy and Strategic Initiatives, Office of Elementary and Secondary Education, Department of Education

Questions from Commissioners

IX. Adjourn Briefing

Dated: May 11, 2016.
David Mussatt,
Regional Programs Unit Chief, U.S. Commission on Civil Rights.

[FR Doc. 2016-11451 Filed 5-11-16; 11:15 am]

BILLING CODE 6335-01-P